DEPARTMENT OF AGRICULTURE

Rural Utilities Service

Announcement of Grant Application Deadlines and Funding Levels

AGENCY: Rural Utilities Service, USDA.

ACTION: Notice of solicitation of applications (NOSA).

SUMMARY: The Rural Utilities Service, a Rural Development agency of the United States Department of Agriculture (USDA), herein referred to as RUS or the Agency, announces its Community Connect Grant Program application window for Fiscal Year (FY) 2015. This notice is being issued prior to passage of a final appropriations act to allow potential applicants time to submit proposals and give the Agency time to process applications within the current fiscal year. RUS will publish on its Web site the amount of funding received in any continuing resolution or the final appropriations act, if any. Expenses incurred in developing applications will be at the applicant's risk.

In addition to announcing the application window, RUS announces the minimum and maximum amounts for Community Connect grants applicable for the fiscal year. The Community Connect Grant Program regulations can be found at 7 CFR 1739, subpart A.

DATES: You may submit completed applications for grants on paper or electronically according to the following deadlines:

• Paper copies must carry proof of shipping no later than February 17, 2015 to be eligible for FY 2015 grant funding. Late applications are not eligible for FY 2015 grant funding.

• Electronic copies must be received by February 17, 2015 to be eligible for FY 2015 grant funding. Late applications are not eligible for FY 2015 grant funding.

ADDRESSES: You may obtain application guides and materials for the Community Connect Grant Program via the Internet at the following Web site: http://www.rurdev.usda.gov/utp_commconnect.html. You may also request application guides and materials from RUS by contacting the appropriate individual listed in section VII of the SUPPLEMENTARY INFORMATION section of this notice.

Submit completed paper applications for grants to the Rural Utilities Service, U.S. Department of Agriculture, 1400 Independence Ave. SW., Room 2808, STOP 1597, Washington, DC 20250-1597. Applications should be marked “Attention: Deputy Assistant Administrator, Loan Origination and Approval Division, Rural Utilities Service.”

Submit electronic grant applications at http://www.grants.gov (Grants.gov), following the instructions you find on that Web site.

FOR FURTHER INFORMATION CONTACT: Shawn Arner, Deputy Assistant Administrator, Loan Origination and Approval Division, Rural Utilities Service, U.S. Department of Agriculture, telephone: (202) 720-0800, fax: (202) 205-2921.

SUPPLEMENTARY INFORMATION:

Overview

Federal Agency: Rural Utilities Service (RUS).

Funding Opportunity Title: Community Connect Grant Program.

Announcement Type: Initial announcement.

Catalog of Federal Domestic Assistance (CFDA) Number: 10.863.

Dates: You may submit completed applications for grants on paper or electronically according to the following deadlines:

• Paper copies must carry proof of shipping no later than February 17, 2015, to be eligible for FY 2015 grant funding. Late applications are not eligible for FY 2015 grant funding.

• Electronic copies must be received by February 17, 2015, to be eligible for FY 2015 grant funding. Late applications are not eligible for FY 2015 grant funding.

Items in Supplementary Information

I. Funding Opportunity: Brief introduction to the Community Connect Grant Program.

II. Award Information: Minimum and maximum amounts.

III. Eligibility Information: Who is eligible, what kinds of projects are eligible, what criteria determine basic eligibility.

IV. Application and Submission Information: Where to get application materials, what constitutes a completed application, how and where to submit applications, deadlines, items that are eligible.

V. Application Review Information: Considerations and preferences, scoring criteria, review standards, selection information.

VI. Award Administration Information: Award notice information, award recipient reporting requirements.

VII. Agency Contacts: Web, phone, fax, email, contact name.

I. Funding Opportunity

RUS improves the quality of life in rural America by providing investment capital, in the form of loans and grants, for the deployment of rural telecommunications infrastructure. Financial assistance is provided to rural utilities; municipalities; commercial corporations; limited liability companies; public utility districts; Indian tribes; and cooperative, nonprofit, limited-dividend, or mutual associations. In order to achieve the goal of increasing economic opportunity in rural America, the Agency finances infrastructure that enables access to a seamless, nation-wide telecommunications network. With access to the same advanced telecommunications networks of its urban counterparts, especially broadband networks designed to accommodate distance learning, telework and telemedicine, rural America will see improving educational opportunities, health care, economies, safety and security, and ultimately higher employment. Of particular concern to the Agency are communities where broadband service is not available and where population densities are such that the cost of deployment to them is high and buildout of infrastructure is unlikely.

The provision of broadband service is vital to the economic development, education, health, and safety of rural Americans. The purpose of the Community Connect Grant Program is to provide financial assistance in the form of grants to eligible applicants that will provide currently unserved areas, on a “community-oriented connectivity” basis, with broadband service that fosters economic growth and delivers enhanced educational, health care, and public safety services. RUS will give priority to rural areas that have the greatest need for broadband services, based on the criteria contained herein.

Grant authority will be used for the deployment of broadband service to extremely rural, lower-income communities on a “community-oriented connectivity” basis. The “community-oriented connectivity” concept will stimulate practical, everyday uses and applications of broadband facilities by cultivating the deployment of new broadband services that improve economic development and provide enhanced educational and health care opportunities in rural areas. Such an approach will also give rural communities the opportunity to benefit from the advanced technologies that are necessary to achieve these goals. Please see 7 CFR part 1739, subpart A, for specifics.

This notice has been formatted to conform to a policy directive issued by the Office of Federal Financial Management (OFFM) of the Office of Management and Budget (OMB), published in the Federal Register on June 23, 2003. This Notice does not change the Community Connect Grant Program regulation (7 CFR 1739, subpart A).

The definitions applicable to this Notice are published at 7 CFR 1739.3.

The Agency will review, evaluate, and score applications received in response to this Notice based on the provisions found in 7 CFR 1739, subpart A, and as indicated in this notice.

II. Award Information

A. Available Funds

1. General. Under 7 CFR 1739.2, the Administrator has established a minimum grant amount of $100,000 and a maximum grant amount of $3,000,000 for FY 2015.

2. Assistance instrument. RUS will execute grant documents appropriate to the project prior to any advance of funds with successful applicants.

B. Community Connect grants cannot be renewed.

Award documents specify the term of each award.

III. Eligibility Information

A. Who is eligible for a Community Connect grant? (See 7 CFR 1739.10.)

1. Only entities legally organized as one of the following are eligible for Community Connect Grant Program financial assistance:

a. An incorporated organization,

b. An Indian tribe or tribal organization, as defined in 25 U.S.C. 450b (e),

c. A state or local unit of government, or

d. A cooperative, private corporation or limited liability company organized on a for-profit or not-for-profit basis.

2. An applicant must have the legal capacity and authority to own and operate the broadband facilities as proposed in their application, to enter into contracts and to otherwise comply with applicable federal statutes and regulations.

3. An applicant must have an active registration with current information in the System for Award Management (SAM) (previously the Central Contractor Registry (CCR)) at https://www.sam.gov and have a Dun and Bradstreet (D&B) Data Universal Numbering System (DUNS) number.

B. Who is not eligible for Community Connect grants?

Individuals are not eligible for Community Connect Grant Program financial assistance directly.

C. What are the basic eligibility requirements for a project?

1. General. The regulation for the Community Connect Grant Program requires that certain definitions affecting eligibility be revised and published from time-to-time by the Agency in the Federal Register. For the purpose of this regulation, the Agency shall use the following definitions: “Broadband service” and “Broadband Grant Speed.” Until otherwise revised in the Federal Register, for applications in FY 2015, to qualify as Broadband Service, the minimum rate of data transmission shall be three megabits per second (download plus upload speeds)for both fixed and mobile service and the Broadband Grant Speed will be a minimum bandwidth of five megabits per second (download plus upload speeds) for both fixed and mobile service to the customer.

2. Required matching contributions. Please see 7 CFR 1739.14 for the requirement. Grant applicants must demonstrate a matching contribution, in cash, of at least fifteen (15) percent of the total amount of financial assistance requested. Matching contributions must be used to support the broadband operations funded under the Community Connect Grant Program.

3. To be eligible for a grant, the Project must (see 7 CFR 1739.11):

a. Serve a Proposed Funded Service Area where Broadband Service does not currently exist, to be verified by RUS prior to the award of the grant;

b. Offer service at the Broadband Grant Speed, free of all charges for at least 2 years, to all Critical Community Facilities located within the proposed Service Area;

c. Offer service at the Broadband Grant Speed to all residential and business customers within the Proposed Funded Service Area; and

d. Provide a Community Center with at least two (2) Computer Access Points and wireless access at the Broadband Grant Speed available, free of charge, to all users for at least 2 years.

e. Not overlap with the Service area of current RUS borrowers and grantees.

4. Other requirements:

a. DUNS numbers and SAM registration: Applicants must have a Dun and Bradstreet DUNS number and be registered in System Awards Management (SAM) at https://www.sam.gov prior to submitting an electronic or paper application. The DUNS number and SAM requirements are contained in 2 CFR part 25. SAM is the repository for standard information about applicants and recipients.

b. DUNS Number: As required by the OMB, all applicants for grants must supply a Dun and Bradstreet DUNS number when applying. The Standard Form 424 (SF-424) contains a field for you to use when supplying your DUNS number. Obtaining a DUNS number costs nothing and requires a short telephone call to Dun and Bradstreet. Please see http://www.grants.gov/applicants/org_step1.jsp for more information on how to obtain a DUNS number or how to verify your organization's number.

c. System for Award Management (SAM): In accordance with 2 CFR part 25, applicants, whether applying electronically or by paper, must be registered in SAM prior to submitting an application. Applicants may register for the SAM at https://www.sam.gov. The SAM registration must remain active, with current information, at all times during which an entity has an application under consideration by an agency or has an active Federal Award. To remain registered in the SAM database after the initial registration, the applicant is required to review and update on an annual basis from the date of initial registration or subsequent updates of its information in the SAM database to ensure it is current, accurate and complete.

C. Discussion of completed application items

See paragraph IV.B of this notice for a discussion of the items that make up a completed application. Refer to 7 CFR 1739.15 for completed grant application items.

IV. Application and Submission Information

A. Where To Get Application Information

The application guide, copies of necessary forms and samples, and the Community Connect Grant Program regulation are available from these sources:

1. The Internet: http://www.rurdev.usda.gov/utp_commconnect.html.

2. The Rural Utilities Service, Loan Origination and Approval Division, for paper copies of these materials: (202) 720-0800.

B. What constitutes a completed application?

1. Detailed information on each item required can be found in the Community Connect Grant Program regulation and the Community Connect Grant Program application guide. Applicants are strongly encouraged to read and apply both the regulation and the application guide. This Notice does not change the requirements for a completed application for any form of Community Connect Grant Program financial assistance specified in the Community Connect Grant Program regulation. The Community Connect Grant Program regulation and the application guide provide specific guidance on each of the items listed and the Community Connect Grant Program application guide provides all necessary forms and sample worksheets.

2. Applications should be prepared in conformance with the provisions in 7 CFR 1739, subpart A, and applicable USDA regulations including 7 CFR parts 3015, 3016, and 3019. Applicants must use the RUS Application Guide for this program containing instructions and all necessary forms, as well as other important information, in preparing their application. Completed applications must include the following:

a. An Application for Federal Assistance. A completed Standard Form (SF) 424.

b. An executive summary of the Project. The applicant must provide RUS with a general project overview.

c. Scoring criteria documentation. Each grant applicant must address and provide documentation on how it meets each of the scoring criteria detailed in 7 CFR 1739.17.

d. System design. The applicant must submit a system design, including, narrative specifics of the proposal, associated costs, maps, engineering design studies, technical specifications and system capabilities, etc.

e. Service area demographics. The applicant must provide a map of the Proposed Funded Service Area using the RUS Mapping Tool.

f. Scope of work. The scope of work must include specific activities and services to be performed under the proposal, who will carry out the activities and services, specific time-frames for completion, and a budget for all capital and administrative expenditures reflecting the line item costs for all grant purposes, the matching contribution, and other sources of funds necessary to complete the project.

g. Community-Oriented Connectivity Plan. The applicant must provide a detailed Community-Oriented Connectivity Plan.

h. Financial information and sustainability. The applicant must provide financial statements and information and a narrative description demonstrating the sustainability of the Project.

i. A statement of experience. The applicant must provide a written narrative describing its demonstrated capability and experience, if any, in operating a broadband telecommunications system.

j. Evidence of legal authority and existence. The applicant must provide evidence of its legal existence and authority to enter into a grant agreement with RUS and to perform the activities proposed under the grant application.

k. Additional Funding. If the Project requires additional funding from other sources in addition to the RUS grant, the applicant must provide evidence that funding agreements have been obtained to ensure completion of the Project.

l. Federal Compliance. The applicant must provide evidence of compliance with other federal statutes and regulations, including, but not limited to the following:

(i) 7 CFR part 15, subpart A—Nondiscrimination in Federally Assisted Programs of the Department of Agriculture—Effectuation of Title VI of the Civil Rights Act of 1964.

(ii) 7 CFR part 3015—Uniform Federal Assistance Regulations.

(iii) 2 CFR part 180—OMB Guidelines to Agencies on Government-wide Debarment and Suspension (Nonprocurement)

(iv) 2 CFR part 417—Nonprocurement Debarment and Suspension.

(v) 7 CFR part 3018—New Restrictions on Lobbying.

(vi) 2 CFR part 421—Government-wide Requirements for Drug-Free Workplace (Financial Assistance).

(vii) Certification regarding Architectural Barriers.

(viii) Certification regarding Flood Hazard Precautions.

(ix) An environmental report/questionnaire, in accordance with 7 CFR 1794.

(x) A certification that grant funds will not be used to duplicate lines, facilities, or systems providing Broadband Service.

(xi) Federal Obligation Certification on Delinquent Debt.

C. How many copies of an application are required?

1. Applications submitted on paper: Submit the original paper application and a copy in electronic format to RUS.

2. Applications submitted through Grants.gov: The additional paper copies are not necessary if you submit the application electronically through Grants.gov.

D. How and Where To Submit an Application

Grant applications may be submitted on paper or through Grants.gov.

1. Submitting applications on paper.

a. Address paper applications for grants to the Rural Utilities Service, U.S. Department of Agriculture, 1400 Independence Ave. SW., Room 2808, STOP 1597, Washington, DC 20250-1597. Applications should be marked “Attention: Deputy Assistant Administrator, Loan Origination and Approval Division, Rural Utilities Service.”

b. Paper applications must show proof of mailing or shipping consisting of one of the following:

(i) A legibly dated U.S. Postal Service (USPS) postmark;

(ii) A legible mail receipt with the date of mailing stamped by the USPS; or

(iii) A dated shipping label, invoice, or receipt from a commercial carrier.

c. Due to screening procedures at the Department of Agriculture, packages arriving via the USPS are irradiated, which can damage the contents. RUS encourages applicants to consider the impact of this procedure in selecting their application delivery method.

2. Applications submitted through Grants.gov.

(a) Applicants may file an electronic application at http://www.grants.gov. Applications will not be accepted via facsimile machine transmission or electronic mail. Grants.gov contains full instructions on all required passwords, credentialing, and software. Follow the instructions at Grants.gov for registering and submitting an electronic application. If a system problem or technical difficulty occurs with an electronic application, please use the customer support resources available at the Grants.gov Web site.

(b) First time Grants.gov users should go to the “Get Started” tab on the Grants.gov site and carefully read and follow the steps listed. These steps need to be initiated early in the application process to avoid delays in submitting your application online.

E. Deadlines

1. Paper applications must be postmarked and mailed, shipped, or sent overnight no later than February 17, 2015 to be eligible for FY 2015 grant funding. Late applications are not eligible for FY 2015 grant funding.

2. Grant applications submitted through Grants.gov must be received by February 17, 2015 to be eligible for FY 2015 funding. Late applications are not eligible for FY 2015 grant funding.

F. Funding Purposes

1. Eligible grant purposes. Grant funds may be used to finance:

a. The construction, acquisition, or leasing of facilities, including spectrum, land or buildings to deploy service at the Broadband Grant Speed to all participating Critical Community Facilities and all required facilities needed to offer such service to all residential and business customers located within the Proposed Funded Service Area;

b. The improvement, expansion, construction, or acquisition of a Community Center that furnishes free internet access at the Broadband Grant Speed and provision of Computer Access Points. Grant funds provided for such costs shall not exceed the lesser of ten percent (10%) of the grant amount requested or $150,000; and

c. The cost of bandwidth to provide service free of charge at the Broadband Grant Speed to Critical Community Facilities for the first 2 years of operation.

2. Ineligible grant purposes.

a. Grant funds may not be used to finance the duplication of any existing Broadband Service provided by another entity.

b. Operating expenses other than the cost of bandwidth for 2 years to provide service at the Broadband Grant Speed to Critical Community Facilities.

3. Please see 7 CFR 1739.3 for definitions, 7 CFR 1739.12 for eligible grant purposes, and 7 CFR 1739.13 for ineligible grant purposes.

V. Application Review Information

A. Criteria

1. Grant applications are scored competitively and subject to the criteria listed below.

2. Grant application scoring criteria (total possible points: 100). See 7 CFR 1739.17 for the items that will be reviewed during scoring and for scoring criteria.

a. An analysis of the challenges of the following criteria, laid out on a community-wide basis, and how the project proposes to address these issues (up to 50 points): 1. The economic characteristics; 2. Educational Challenges; 3. Health care needs; 4. Public safety issues; and 5. Small Area Income and Poverty Estimates (applications that according to the 2010 census show that at least 20 percent of the population of the counties included in core coverage areas is living in poverty) will receive the maximum score in this category. This emphasis will support Rural Development's mission of improving the quality of life for Rural Americans and commitment to directing resources to those who most need them.

b. The extent of the Project's planning, development, and support by local residents, institutions, and Critical Community Facilities (up to 40 points);

c. The level of experience and past success of operating broadband systems for the management team (up to 10 points); and

d. In making a final selection among and between applications with comparable rankings and geographic distribution, the Administrator may take into consideration the characteristics of the Proposed Funded Service Area (PFSA).

B. Special consideration areas

RUS will offer special consideration to applications that propose to provide broadband service within a trust area or a tribal jurisdictional area. Such applications will be awarded 15 points. The applicant will need to submit evidence indicating that the proposed service area is located in a trust area or a tribal jurisdictional area.

RUS will use one or more of the following resources in determining whether a proposed service area is located in a trust area or tribal jurisdictional area:

(a) Official maps of Federal Indian Reservations based on information compiled by the U.S. Department of the Interior, Bureau of Indian Affairs, and made available to the public;

(b) Title Status Reports issued by the U.S. Department of the Interior, Bureau of Indian Affairs, showing that title to such land is held in trust or is subject to restrictions imposed by the United States;

(c) Trust Asset and Accounting Management System data, maintained by the Department of the Interior, Bureau of Indian Affairs;

(d) Official maps of the Department of Hawaiian Homelands of the State of Hawaii identifying land that has been given the status of Hawaiian home lands under the provisions of section 204 of the Hawaiian Homes Commission Act, 1920;

(e) Official records of the U.S. Department of the Interior, the State of Alaska, or such other documentation of ownership as the RUS may determine to be satisfactory, showing that title is owned by a Regional Corporation or a Village Corporation as such terms are defined in the Alaska Native Claims Settlement Act (43 U.S.C. 1451 et seq.); and

(f) Any other evidence submitted by the applicant that is satisfactory to RUS to establish that area where the end-user site is located is a trust area or a tribal jurisdictional area within the meaning of 38 U.S.C. 3765(1).

C. Review Standards

1. All applications for grants must be delivered to RUS at the address and by the date specified in this notice or electronically submitted by the deadline (see also 7 CFR 1739.2) to be eligible for funding. The Agency will review each application for conformance with the provisions of this part. RUS may contact the applicant for additional information or clarification.

2. Incomplete applications as of the deadline for submission will not be considered. If an application is determined to be incomplete, the applicant will be notified in writing and the application will be returned with no further action.

3. Applications conforming with this part will then be evaluated competitively by a panel of Rural Utilities Service employees selected by the Administrator of Rural Utilities Service, and will be awarded points as described in the scoring criteria in 7 CFR 1739.17. Applications will be ranked and grants awarded in rank order until all grant funds are expended.

D. Selection Process

Grant applications are ranked by final score. The Rural Utilities Service selects applications based on those rankings, subject to the availability of funds and consistent with 7 CFR 1739.17.

VI. Award Administration Information

A. Award Notices

The Rural Utilities Service recognizes that each funded project is unique, and therefore may attach conditions to different projects' award documents. RUS generally notifies applicants whose projects are selected for awards by emailing a scanned copy of an award letter. RUS follows the award letter with a grant agreement that contains all the terms and conditions for the grant. An applicant must execute and return the grant agreement, accompanied by any additional items required by the grant agreement.

B. Administrative and National Policy Requirements

The items listed in paragraph IV.B.2.l. of this notice, and the Community Connect Grant Program regulation, application guide and accompanying materials implement the appropriate administrative and national policy requirements.

C. Reporting

1. Performance reporting. All recipients of Community Connect Grant Program financial assistance must provide annual performance activity reports to RUS until the project is complete and the funds are expended. A final performance report is also required; the final report may serve as the last annual report. The final report must include an evaluation of the success of the project. See 7 CFR 1739.19.

2. Financial reporting. All recipients of Community Connect Grant Program financial assistance must provide an annual audit, beginning with the first year a portion of the financial assistance is expended. Audits are governed by United States Department of Agriculture audit regulations. See 7 CFR 1739.20.

3. Recipient and Subrecipient Reporting. The applicant must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR part 170 are as follows:

a. First Tier Sub-Awards of $25,000 or more (unless they are exempt under 2 CFR part 170) must be reported by the Recipient to http://www.fsrs.gov no later than the end of the month following the month the obligation was made.

b. The Total Compensation of the Recipient's Executives (5 most highly compensated executives) must be reported by the Recipient (if the Recipient meets the criteria under 2 CFR part 170) to http://www.sam.gov by the end of the month following the month in which the award was made.

c. The Total Compensation of the Subrecipient's Executives (5 most highly compensated executives) must be reported by the Subrecipient (if the Subrecipient meets the criteria under 2 CFR part 170) to the Recipient by the end of the month following the month in which the subaward was made.

VII. Agency Contacts

A. Web site: http://www.rurdev.usda.gov/utp_commconnect.html. This Web site maintains up-to-date resources and contact information for the Community Connect Grant Program.

B. Phone: (202) 720-0800

C. Fax: (202) 205-2921

D. Main point of contact: Shawn Arner, Deputy Assistant Administrator, Loan Origination and Approval Division, Rural Utilities Service, U.S. Department of Agriculture.

Dated: December 11, 2014.
Jasper Schneider,
Acting Administrator, Rural Utilities Service.

[FR Doc. 2014-29600 Filed 12-16-14; 8:45 am]

BILLING CODE P